DEPARTMENT OF TRANSPORTATION

[Docket Number: DOT-OST-2017-0043]

Agency Information Collection Activity; Notice of Reinstatement To Collect Information: Barrier Failure Reporting in Oil and Gas Operations on the Outer Continental Shelf

AGENCY: Bureau of Transportation Statistics (BTS), Office of the Assistant Secretary for Research Technology (OST-R), U.S. Department of Transportation.

ACTION: Notice; Reinstatement to Collect Data.

SUMMARY: In accordance with the requirements of the Paperwork Reduction Act of 1995, this notice announces the intention of the BTS to request the Office of Management and Budget (OMB) to reinstate previously approved OMB Number 2139-0046 for the following information collection: Barrier Failure Reporting in Oil and Gas Operations on the Outer Continental Shelf (OCS). BTS entered into a memorandum of understanding (MOU) with the Bureau of Safety and Environmental Enforcement (BSEE) to include an industry-wide repository of equipment failure data, analyze and aggregate information collected under this program, and publish reports that will provide BSEE, the industry, and all OCS stakeholders with essential information about failure types and modes of critical safety barriers for offshore operations related to well control. The data collection effort that is the subject of this notice, addressed the collection of failure data as referenced in recently issued BSEE regulations on (81 FR 25888), April 29, 2016 and (81 FR 61834), September 7, 2016. BTS received permission to collect the data under an emergency OMB control number on September 29, 2016. Through this notice, BTS is requesting permission to reinstate this previously approved OMB control number. This information collection is necessary to aid BSEE, the oil and gas industry, and other stakeholders in identifying barrier failure trends and causes of critical safety barrier failure events.

DATES: Comments must be received by December 27, 2017.

ADDRESSES: BTS seeks public comments on its proposed continuation of information collection. Comments should address whether the information will have practical utility; the accuracy of the estimated burden hours of the proposed information collection; ways to enhance the quality, utility and clarity of the information to be collected; and ways to minimize the burden of the collection of information on respondents, including the use of automated collection techniques or other forms of information technology. Send comments to the Office of Information and Regulatory Affairs, Office of Management and Budget, 725 17th Street NW., Washington, DC 20503, Attention: BTS Desk Officer.

FOR FURTHER INFORMATION CONTACT: Demetra V. Collia, Bureau of Transportation Statistics, Office of the Assistant Secretary for Research and Technology (OST-R), U.S. Department of Transportation, Office of Statistical and Economic Analysis (OSEA), RTS-31, E36-302, 1200 New Jersey Avenue SE., Washington, DC 20590-0001; Phone No. (202) 366-1610; Fax No. (202) 366-3383; email: demetra.collia@dot.gov. Office hours are from 8:30 a.m. to 5 p.m., EST, Monday through Friday, except Federal holidays.

Data Confidentiality Provisions: This data collection is protected under the BTS confidentiality statute (49 U.S.C. 6307(b)) and the Confidential Information Protection and Statistical Efficiency Act (CIPSEA) of 2002 (Public Law 107-347, Title V). In accordance with these confidentiality statutes, only statistical and non-identifying data will be made publicly available through reports. Further, BTS will not release to BSEE or any other public or private entity any information that might reveal the identity of individuals or organizations mentioned in SafeOCS reports.

SUPPLEMENTARY INFORMATION:

I. The Data Collection

The Paperwork Reduction Act of 1995 (44 U.S.C. Chapter 35; as amended) and 5 CFR part 1320 require each Federal agency to obtain OMB approval to continue an information collection activity. BTS is seeking OMB approval for the following BTS information collection activity:

Title: Barrier Failure Reporting in Oil and Gas Operations on the Outer Continental Shelf.

OMB Control Number: 2139-0046.

Type of Review: Approval of data collection.

Respondents: Oil and Gas Operators on the Outer Continental Shelf.

Number of Respondents: As a request to be authorized repository for previously collected information, BTS has identified BSEE as the sole respondent reporting to BTS at the annual frequency of one.

Estimated Time per Response: 60 minutes.

Frequency: Once.

Total Annual Burden: 1 hour.

BTS has agreed through an MOU with BSEE to undertake the information collection identified in the previously approved BSEE notice for OMB Control Number(s) 1014-0028, expiration 4/30/2019 and the BSEE notice with OMB Control Number 1014-0003, expiration 8/31/2019, to ensure the confidentiality of submissions under CIPSEA. The information collection is limited to the establishment of BTS as an authorized repository. This information collection request does not create any additional burden for respondents.

II. Public Participation and Request for Public Comments

On March 30, 2017, BTS published a notice (82 FR 15787) encouraging interested parties to submit comments to docket number DOT-OST-2017-0043 and allowing for a 60-day comment period. The comment period closed on May 30, 2017. To view comments, go to http://www.regulations.gov and insert the docket number, “DOT-OST-2017-0043” in the “Search” box and click “Search.” Next, click “Open Docket Folder” button and choose document listed to review. If you do not have access to the Internet, you may view the docket by visiting the Docket Management Facility in Room W12-140 on the ground floor of the U.S. DOT West Building, 1200 New Jersey Avenue SE., Washington, DC 20590, between 9 a.m. and 5 p.m. Monday through Friday, except Federal holidays.

Privacy Act

All comments the BTS received were posted without change to http://www.regulations.gov. Anyone may search the electronic form of all comments received into any of our dockets by the name of the individual submitting the comment (or of the person signing the comment, if submitted on behalf of an association, business, labor union, etc.). You may review DOT's complete Privacy Act Statement in the Federal Register published on January 17, 2008 (73 FR 3316), or you may visit https://www.gpo.gov/fdsys/pkg/FR-2017-03-30/pdf/2017-06272.pdf.

III. Discussion of Public Comments and BTS Responses

BTS announced on March 30, 2017 in a Federal Register Notice (82 FR 15788) its intention to request that OMB approve the following continuation of information collection: Barrier Failure Reporting in Oil and Gas Operations on the Outer Continental Shelf. BTS received no comments during the 60-day public comment period. The March 30th notice stated that the BTS was seeking to renew the previously approved collection 2139-0046. This 30-day notice clarifies that BTS is seeking reinstatement of the expired collection and is requesting OMB authorize the collection for three years.

Issued on: November 21, 2017.
Patricia Hu,
Director, Bureau of Transportation Statistics, Office of the Assistant Secretary for Research and Technology

[FR Doc. 2017-25565 Filed 11-24-17; 8:45 am]

BILLING CODE 4910-P